DEPARTMENT OF THE INTERIOR

National Park Service

Wekiva River System Advisory Management Commission Meeting

AGENCY: National Park Service, Department of the Interior.

ACTION: Notice of meeting.

SUMMARY: This notice announces a May 3, 2005 initial meeting of the Wekiva River System Advisory Management Commission.

DATES: The meeting will be held Tuesday, May 3, 2005 at 7 p.m.

ADDRESSES: The meeting will be held at the Wekiwa Springs State Park, Youth Camp Classroom, 1800 Wekiwa Circle, Apopka, FL 32712. Wekiwa Springs State Park is located off Interstate 4 at exit 49. Take State Road 434 West to Wekiwa Springs Rd. Call (407) 884-2006 or visit http://www.floridastateparks.org/wekiwasprings for additional information on this facility.

FOR FURTHER INFORMATION CONTACT: Jamie Fosburgh, Rivers Program Manager, Northeast Region—Boston, 15 State Street, Boston, MA 02109, telephone (617) 223-5191.

SUPPLEMENTARY INFORMATION: The meeting will be open to the public. The agenda will include: Introductions; Review of Commission Charter and Purpose; Review of Management Plan Scope and Purpose; Commission Operating Logistics; and related topics. Any member of the public may file with the Commission a written statement concerning agenda items. The statement should be addressed to the Wekiva River System Advisory Management Commission, National Park Service, 15 State Street, Boston, MA 02109.

The Wekiva River System Advisory Management Commission was established by Pub. L. 106-299 to assist in the development of the comprehensive management plan for the Wekiva River System and provide advice to the Secretary in carrying out management responsibilities of the Secretary under the Wild and Scenic Rivers Act (16 U.S.C. 1274).

Dated: April 6, 2005.
Jamie Fosburgh,
Rivers Program Manager.

[FR Doc. 05-7914 Filed 4-19-05; 8:45 am]

BILLING CODE 4312-52-M